DEPARTMENT OF HOMELAND SECURITY

Senior Executive Service Performance Review Board

AGENCY: Office of the Secretary, Department of Homeland Security.

ACTION: Notice.

SUMMARY: This notice announces the appointment of the members of the Senior Executive Service (SES) Performance Review Boards (PRBs) for the Department of Homeland Security (DHS). The purpose of the PRBs is to view and make recommendations concerning proposed performance appraisals, ratings, bonuses, pay adjustments, and other appropriate personnel actions for incumbents of SES, Senior Level and Senior Professional positions of the Department.

DATES: This Notice is current as of October 9, 2018.

FOR FURTHER INFORMATION CONTACT: Julie Hart, Office of the Chief Human Capital Officer, Julie.Hart@hq,dhs.gov, or by telephone (202) 357-8163.

SUPPLEMENTARY INFORMATION: Each Federal agency is required to establish one or more performance review boards to make recommendations, as necessary, in regard to the performance of senior executives within the agency. 5 U.S.C. 4314(c). This notice announces the appointment of the members of the PRB for DHS. The purpose of the PRB is to review and make recommendations concerning proposed performance appraisals, ratings, bonuses, pay adjustments, and other appropriate personnel actions for incumbents of SES positions within DHS.

The Board shall consist of at least three members. In the case of an appraisal of a career appointee, more than half of the members shall consist of career appointees. Composition of the specific PRBs will be determined on an ad hoc basis from among the individuals listed below:

Agarwal, Nimisha

Albence, Matthew T.

Allen, Matthew C.

Alles, Randolph D.

Anderson, Rose J.

Anderson, Sandra D.

Annan, Niccomedo S.

Archambeault, Gregory J.

Ard, William P.

Asher, Nathalie R.

Auletta, Laura

Austin, Meredith L.

Awni, Muhammad H.

Ayala, Janice

Baber, Daniel M.

Bailey, Angela

Baker, Paul E.

Baran, Kathy A.

Baroukh, Nader

Barrera, Staci A.

Barrett, Lawrence R.

Beagles, James M.

Beckman, Paul G.

Bench, Bradford A.

Benner, Derek

Berger, Katrina W.

Bester-Markowitz, Margot

Bhagowalia, Sanjeev

Bible, Daniela

Blessey, Caroline

Blume, Mark Allen

Blumenthal, Jennifer

Bobich, Jeffrey M.

Borkowski, Mark S.

Boshears, Kevin

Bottom, David

Boyer, Stephen A.

Breor, Scott F.

Brown, A. Scott

Brown, Michael C.

Bruce, Melissa J.

Brundage, William

Bryan, Michelle C.

Bryan, Willliam N.

Bryson, Tony R.

Brzozowski, Crista M.

Bucholtz, Kathleen L.

Burns, Robert P.

Burriesci, Kelli A.

Busch, Philip B.

Caggiano, Marshall L.

Cahill, Donna

Caine, Jeffrey

Callahan, William J.

Calvo, Karl H.

Cameron, Michael K.

Campagnolo, Donna P.

Cantor, Jonathan R.

Carpio, Philip F.

Carraway, Melvin

Carrick, Patrick G.

Castro, Raul M.

Chaleki, Thomas D.

Chang, Hayley

Cheng, Wen-Tin

Ciccone, Christine

Clever Beaumont, Traci L.

Coller-Monarez, Susan

Colucci, Nicholas V.

Contreras, Patrick D.

Correa, Soraya

Cotter, Daniel

Courey, Marc B.

Cowan, Robert M.

Cox, Adam

Cox, Debra S.

Cribbs, Carol

Crumpacker, Jim H.

Cupp, Mary E.

Curda, Susan M.

Daitch, William

Davidson, Andrew J.

Davidson, Michael J.

Davis, Michael P.

Dawson, Inga I.

Decker, Thomas R.

Delgado, Jose L.

Dembling, Ross W.

DeNayer, Larry C.

DeStefano, Ernest

DiFalco, Frank J.

DiNanno, Thomas G.

DiPietro, Joseph R.

Dipippa, Kathy L.

Dolan, Edward

Dolan, Mark E.

Doolin, Joel

Dossie, Susie L.

Dougherty, Thomas E.

Driggers, Richard J.

Dugan, Moises S.

Dunbar, Susan

Duong, Anh N.

Early, Emily N.

Edwards, B. Roland

Emrich, Matthew D.

Erichs, Alysa D.

Evetts, Mark V.

Falk, Scott

Fallon, William

Fenton, Jennifer M.

Ferraro, Nina M.

Filipponi, Karen B.

Fischer, John W.

Fitzmaurice, Stacey D.

Flores, Simona L.

Flory, Gillian

Folden, Shane M.

Fox, Kathleen McDonald

Frazier, Sterling T.

Fujimura, Paul

Fulghum, Charles “Chip” H.

Gabbrielli, Tina

Gallagher, Sean W.

Gantt, Kenneth D.

Garnett, Patsy

Gersten, David

Gibbs, Michael D.

Glawe, David J.

Grable, Samuel D.

Grady, Claire

Gramlick, Carl

Greene, Jonathan

Groom, Molly

Guzman, Nicole

Hall, Christopher J.

Hall, Daniel F.

Hammersley, Bonnie M.

Hampton, Stephanie L.

Harris, Melvin

Harris, Steven E.

Havranek, John F.

Heinz, Todd W.

Hewitt, Ronald T.

Hickey, Gary

Higgins, Jennifer B.

Highsmith, AnnMarie

Hill, Marcus L.

Hochman, Kathleen T.

Hoefer, Michael D.

Holtermann, Keith

Holzer, James

Houser, David

Howard, Jr., Percy L.

Howard, Tammy

Humphries, Robert H.

Huron, Diana

Hutchison, Steven J.

Ileto, Carlene

Jacksta, Linda L.

James, Michele L.

Jenkins, Jr., Kenneth T.

Jennings, David W.

Jeronimo, Jose M.

Johnson, Claren

Johnson, James V.

Johnson, Tae D.

Joseph, James K.

Kaufman, Steven

Kelly, William G.

Kerner, Francine

Kerns, Kevin J.

King, Matthew H.

King, Tatum S.

Kirby, Lyn M.R.

Kirchner, Julie

Klein, Matthew

Klopp, Jacalynne B.

Kolbe, Kathryn L.

Kopel, Richard S.

Koumans, Mark R.

Kramar, John

Kronisch, Matthew L.

Kruger, Mary

Kuepper, Andrew

Kuhn, Karen A.

Lafferty, John L.

LaJoye, Darby R.

Landfried, Phillip A.

Lanum, Scott

Lechleitner, Patrick J.

Lederer, Calvin M.

Letowt, Philip J.

Lew, Kimberly D.

Lewis, Donald R.

Ley, Jennifer E.

Lilly, Tamara J.

Lipka, Daniel

Logan, Christopher P.

Loiacono, Adam

Lucero, Enrique M.

Luck, Scott A.

Lundgren, Karen E.

Macias, Joseph

Maher, Joseph

Manaher, Colleen M.

Mapar, Jalal

Marcott, Stacy

Martin, Joseph F.

Maughan, William D.

McComb, Richard

McDermott, Thomas

McDonald, Christina E.

McElwain, Patrick J.

McLane, JoAnn

Meckley, Tammy M.

Melendez, Angel M.

Melero, Mariela

Micone, Vincent N.

Miles, Jere T.

Miles, John D.

Miller, Marlon V.

Mishoe, Andrea R.

Mitnick, John

Moman, C. Christopher

Moncarz, Benjamin D.

Moore, Mark J.

Moskowitz, Brian M.

Moss, Rita J.

Mulligan, George D.

Murray, James M.

Muzyka, Carolyn L.

Nally, Kevin

Nelson, Mickey M.

Nestor, Eric J.

Neufeld, Donald W.

Nuebel Kovarik, Kathy

Owen, Todd C.

Padilla, Kenneth

Palmer, David

Paramore, Faron K.

Parker, Debra F.

Paschall, Robert D.

Patel, Kalpesh A.

Paul, Kshemendra

Perez, Nelson

Perez, Robert E.

Piccone, Colleen C.

Pietropaoli, Lori A.

Pineiro, Marlen

Pohlman, Teresa R.

Price, Corey A.

Prosnitz, Susan M.

Provost, Carla L.

Rabin, John L.

Renaud, Daniel M.

Renaud, Tracy L.

Rice, Stephen W.

Richardson, Gregory

Ries, Lora L.

Riordan, Denis C.

Rivera, David D.

Robbins, Timothy S.

Robinson, Terri A.

Rodriguez, Waldemar

Roncone, Stephen A.

Rosenberg, Ron M.

Rosenblum, Marc R.

Roy, Donna M.

Ruppel, Joanna

Rynes, Joel C.

Sahakian, Diane V.

Salazar, Rebekah A.

Salazar, Ronald M.

Saltalamachea, Michael

Saunders, Ian C.

Schlegel, Thomas E.

Seguin, Debbie

Selby, Cara M.

Selby, Mark R.

Sellers, Frederick E.

Settles, Clark E.

Sevier, Adrian

Seymour, Donna K.

Shah, Dimple

Shaw, David C.

Short, Tracy

Short, Victoria

Sloan, Terry G.

Smislova, Melissa

Smith, Brenda B.

Smith, Frederick B.

Spero, James

Spradlin, Ryan L.

Stephens, Celisa M.

Stough, Michael S.

Sulc, Brian

Suriano, Mark A.

Sutherland, Dan W.

Swain, Donald R.

Swartz, Neal J.

Sykes, Gwendolyn

Symons, Craig M.

Szczech, Gracia B.

Taylor, Clothilda

Taylor, Robin

Travis, Matthew B.

Tuttle, James D.

Ulrich II, Dennis A.

Valverde, Michael

Van Houten, Ann

Venture, Veronica

Villanueva, Raymond

Wagner, John P.

Wallen, Steven

Walters, Thomas J.

Walton, Kimberly H.

Wasowicz, John A.

Whalen, Mary Kate

Wheaton, Kelly D.

Whittenburg, Cynthia F.

Wince, Kevin A.

Windham, Nicole

Wofford, Cynthia R.

Wong, Richardo A.

Wong, Sharon M.

Yandall, Gwendolyn

Yarwood, Susan A.

Young, Edward E.

Zabko, John G.

Dated: October 2, 2018.
Greg Ruocco,
Manager, Executive Resources Policy, Office of the Chief Human Capital Officer.

[FR Doc. 2018-21887 Filed 10-5-18; 8:45 am]

BILLING CODE 9110-9B-P